DEPARTMENT OF DEFENSE

Department of the Army

Notice of Intent To Grant an Exclusive, Partially Exclusive or Non-Exclusive License of the United States Patent Application No. 13/543,217 Filed July 06, 2012 Entitled ”Tie-Down and Jack Fitting Assembly for Helicopter”

AGENCY: Department of the Army, DoD.

ACTION: Notice of intent.

SUMMARY: In accordance with 35 U.S.C. 209 and 37 CFR 404.7 (a)(l)(i), announcement is made of a prospective exclusive, partially exclusive, or non-exclusive license of the following U.S. Patent Application 13/543,217 Filed July 06, 2012 to Envoy Flight Systems, Incorporated with its principal place of business at 201 Ruther Drive, Suite 3, Newark, DE 19711.

DATES: Written objections must be filed not later than 15 days following publication of this announcement.

ADDRESSES: Commander, U.S. Army Research Development and Engineering Command, Aviation and Missile Research Development, and Engineering Center, ATTN: RDMR-CST (Ms. Cindy Wallace), Bldg 5400, Redstone Arsenal, AL 35898-5000.

FOR FURTHER INFORMATION CONTACT: Ms. Cindy Wallace, (256) 313-0895, FAX (256) 955-6529 email: cindy.wallace@us.army.mil.

SUPPLEMENTARY INFORMATION: The patent application relates to the aviation platforms and helicopters. More specifically, the present invention claims to assist the users to jack and weigh the rotorcraft prior to flight operations. The present invention also provides a primary tool in securing the rotorcraft for safe transit.

Brenda S. Bowen,
Army Federal Register Liaison Officer.

[FR Doc. 2013-22009 Filed 9-10-13; 8:45 am]

BILLING CODE 3710-08-P